DEPARTMENT OF ENERGY

Office of Energy Efficiency and Renewable Energy

[Case No. RF-047]

Extension of Waiver to Panasonic Appliances Refrigeration Systems Corporation of America (PAPRSA) From the Department of Energy Consumer Refrigerator and Refrigerator-Freezer Test Procedures

AGENCY: Office of Energy Efficiency and Renewable Energy, Department of Energy.

ACTION: Extension of waiver.

SUMMARY: The U.S. Department of Energy (“DOE”) is granting a waiver extension (Case No. RF-047) to Panasonic Appliances Refrigeration Systems Corporation of America (“PAPRSA”) to waive the requirements of the DOE refrigerator and refrigerator-freezer test procedures for determining the energy consumption of a specific combination cooler-refrigerator basic model, PR5181WBC. Under this extension, PAPRSA is required to test and rate this basic model in accordance with the applicable DOE test procedure, with the exception that it must calculate energy consumption using a correction factor (“K-factor”) of 0.85.

DATES: This extension of waiver applies starting on August 4, 2017.

FOR FURTHER INFORMATION CONTACT:

Mr. Bryan Berringer, U.S. Department of Energy, Building Technologies Program, Mailstop EE-2J, 1000 Independence Avenue SW., Washington, DC 20585-0121. Telephone: (202) 586-0371, Email: AS_Waiver_Requests@ee.doe.gov.

Mr. Michael Kido, U.S. Department of Energy, Office of the General Counsel, Mail Stop GC-33, Forrestal Building, 1000 Independence Avenue SW., Washington, DC 20585-0103. Telephone: (202) 586-8145. Email: Michael.Kido@hq.doe.gov.

SUPPLEMENTARY INFORMATION: In accordance with 10 CFR 430.27(g), DOE gives notice of the issuance of its extension of waiver as set forth below. The extension of waiver grants PAPRSA a waiver from the applicable consumer refrigerator and refrigerator-freezer test procedures found in 10 CFR part 430, subpart B, appendix A for combination cooler-refrigerator basic model, PR5181WBC, provided that PAPRSA tests and rates the basic model using the alternate test procedure described in this notice. This extension prohibits PAPRSA from making representations concerning the energy efficiency of these products unless the product has been tested in a manner consistent with the provisions and restrictions in the alternate test procedure set forth in the extension below, and the representations fairly disclose those test results. Distributors, retailers, and private labelers are held to the same standard when making representations regarding the energy efficiency of these products. 42 U.S.C. 6293(c).

I. Background and Authority

Title III, Part B of the Energy Policy and Conservation Act of 1975, as amended (“EPCA”) (42 U.S.C. 6291-6309) established the Energy Conservation Program for Consumer Products Other Than Automobiles, a program that includes consumer refrigerators and refrigerator-freezers.¹ Part B includes definitions, test procedures, labeling provisions, energy conservation standards, and the authority to require information and reports from manufacturers. Further, Part B authorizes the Secretary of Energy to prescribe test procedures that are reasonably designed to produce results that measure energy efficiency, energy use, or estimated operating costs, and that are not unduly burdensome to conduct. (42 U.S.C. 6293(b)(3)) The test procedure for refrigerators and refrigerator-freezers is set forth in 10 CFR part 430, subpart B, appendix A.

¹ For editorial reasons, upon codification in the U.S. Code, Part B was re-designated Part A.

The regulations set forth in 10 CFR 430.27 contain provisions that allow a person to seek a waiver from the test procedure requirements for a particular basic model of a type of covered product when the petitioner's basic model for which the petition for waiver was submitted contains one or more design characteristics that: (1) Prevent testing according to the prescribed test procedure, or (2) cause the prescribed test procedures to evaluate the basic model in a manner so unrepresentative of its true energy consumption characteristics as to provide materially inaccurate comparative data. 10 CFR 430.27(a)(1). DOE may grant the waiver subject to conditions, including adherence to alternate test procedures. 10 CFR 430.27(f)(2). DOE recently published standards for miscellaneous refrigeration products (“MREFs”). See 81 FR 75194 (Oct. 28, 2016). Testing to demonstrate compliance with those standards will require manufacturers to use the MREF test procedure established in a final rule published in July 2016. See 81 FR 46768 (July 18, 2016) (MREF coverage determination and test procedure final rule) and 81 FR 49868 (July 29, 2016) (MREF test procedure final rule correction notice). Under these rules, DOE has determined that products such as those that are at issue here fall into the MREF category. Accordingly, consistent with these MREF-specific provisions, these products will be evaluated under prescribed procedures and against specified standards that are tailored to account for their particular characteristics.

A petitioner may request that DOE extend the scope of a waiver or an interim waiver to include additional basic models employing the same technology as the basic model(s) set forth in the original petition. DOE will publish any such extension in the Federal Register. 10 CFR 430.27(g).

II. PAPRSA's Extension of Waiver: Assertions and Determinations

DOE issued a Decision and Order, in Case No. RF-022, granting PAPRSA ² a waiver to test hybrid wine chiller/beverage center basic models (77 FR 49443 (August 16, 2012)). That waiver was extended to include additional basic models in Case Nos. RF-031 (78 FR 57139 (September 17, 2013)) and RF-041 (79 FR 55769 (September 17, 2014)). In Case No. RF-043, DOE issued an Order rescinding the Orders in Case Nos. RF-022, RF-031, and RF-041 due to erroneous formulae and reference to an obsolete DOE test procedure. That Order granted an interim waiver that covered all the basic models that were subject to the previous Orders, and one additional basic model for which PAPRSA had requested a waiver extension (81 FR 4270 (January 26, 2016)). Most recently, DOE issued a Decision and Order granting a waiver to all the basic models that had been subject to the interim waiver (82 FR 21209 (May 5, 2017)). The waiver required PAPRSA to test and rate the specified basic models in accordance with the applicable DOE test procedure, with the exception that it must calculate energy consumption using a correction factor (“K-factor”) of 0.85.

² The waiver was originally issued to Sanyo E&E Corporation, which has since changed its corporate name to PAPRSA.

On May 3, 2017, PAPRSA requested an extension of that waiver, under 10 CFR 430.27(g), to a new basic model, PR5181WBC, that employs the same technology as the basic models set forth in the original petition for waiver. Specifically, PAPRSA states that basic model PR5181WBC employs the same wine compartment—beverage compartment technology and design characteristics as the basic models for which the original waiver was granted. That basic model achieves a wine-chiller compartment average temperature of 50 °F using a heater that prevents the wine-chiller compartment temperature from sinking below 42 °F. DOE is publishing at the end of this notice PAPRSA's request for extension of waiver in its entirety.

III. Order

After careful consideration of all the material submitted by PAPRSA, it is ordered that:

(1) The request for extension of waiver submitted by the Panasonic Appliances Refrigeration Systems Corporation of America (Case No. RF-047) is hereby granted as set forth in the paragraphs below.

(2) PAPRSA must test and rate the PAPRSA basic models specified in paragraph (3) using the current test procedure contained in 10 CFR part 430, subpart B, appendix A, with the exception that it must calculate energy consumption using a correction factor (“K-factor”) of 0.85.

Therefore, the energy consumption is defined by:

If compartment temperatures are below their respective standardized temperatures for both test settings (according to 10 CFR part 430, subpart B, appendix A, sec. 6.2.4.1):

E = (ET1 × 0.85) + IET.

If compartment temperatures are not below their respective standardized temperatures for both test settings, the higher of the two values calculated by the following two formulas (according to 10 CFR part 430, subpart B, appendix A, sec. 6.2.4.2):

Energy consumption of the “cooler compartment”:

ECooler Compartment = (ET1 + [(ET2 − ET1) × (55 °F−TW1)/(TW2−TW1)]) × 0.85 + IET

Energy consumption of the “fresh food compartment”:

EFreshFood Compartment = (ET1 + [(ET2-ET1) × (39 °F-TBC1)/(TBC2-TBC1)]) × 0.85 + IET.

(3) This Order only applies to basic model PR5181WBC.

(4) Representations. PAPRSA may make representations about the energy use of its combination cooler-refrigerator product for compliance, marketing, or other purposes only to the extent that such products have been tested in accordance with the provisions above and such representations fairly disclose the results of such testing.

(5) This Order will terminate on October 28, 2019, in conjunction with the compliance date that applies to the recently published standards for miscellaneous refrigeration products (“MREFs”). See 81 FR 75194 (Oct. 28, 2016). Testing to demonstrate compliance with those standards must be performed in accordance with the MREF test procedure final rule. See 81 FR 46768 (July 18, 2016) (MREF test procedure final rule) and 81 FR 49868 (July 29, 2016) (MREF test procedure final rule correction notice).

(6) This waiver is issued on the condition that the statements, representations, and documentary materials provided by the petitioner are valid. DOE may revoke or modify this waiver at any time if it determines the factual basis underlying the petition for waiver is incorrect, or the results from the alternate test procedure are unrepresentative of the basic models' true energy consumption characteristics.

(7) Granting of this extension does not release a petitioner from the certification requirements set forth at 10 CFR part 429.

Issued in Washington, DC, on July 28, 2017.
Kathleen B. Hogan,
Deputy Assistant Secretary for Energy Efficiency, Energy Efficiency and Renewable Energy.

[FR Doc. 2017-16447 Filed 8-3-17; 8:45 am]

BILLING CODE 6450-01-P